DEPARTMENT OF THE INTERIOR

Fish and Wildlife Service

[FWS-HQ-IA-2013-N073; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 22, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Riverbanks Zoo and Garden, Columbia, SC; PRT-96245A.

The applicant requests a permit to import biological samples collected from wild leatherback sea turtles (Dermochelys coriacea) in Suriname for the purpose of scientific research. This notification covers activities to be conducted by the applicant over a 5-year period.

Applicant: Miami-Dade Zoological Park and Gardens, Miami, FL; PRT-97266A.

The applicant requests a permit to export a captive-born female harpy eagle (Harpia harpyja) to Parque Municipal Summit de Panama, Gamboa, Panama, for the purpose of enhancement of the survival of the species.

Applicant: Mesker Park Zoo, Evansville, IN; PRT-678968.

The applicant requests renewal of their captive-bred wildlife registration under 50 CFR 17.21(g) for the following families, genera, and species, to enhance their propagation or survival. This notification covers activities to be conducted by the applicant over a 5-year period.

Families

Bovidae

Cebidae

Cercopithecidae

Cervidae

Hylobatidae

Lemuridae

Macropodidae

Gruidae

Genus

Panthera

Species

Snow leopard (Uncia uncia)

Clouded leopard (Neofelis nebulosa)

Bactrian camel (Camelus bactrianus)

Cheetah (Acinonyx jubatus)

Baird's tapir (Tapirus bairdii)

Przewalski's horse (Equus przewalskii)

Pygmy slow loris (Nycticebus pygmaeus)

Tartaruga (Podocnemis expansa)

Applicant: Gary Johnson, Perris, CA; PRT-808265.

The applicant requests renewal of their captive-bred wildlife registration under 50 CFR 17.21(g) for the Asian elephant (Elephas maximus) to enhance their propagation or survival. This notification covers activities to be conducted by the applicant over a 5-year period.

Applicant: Zoological Society of Philadelphia, Philadelphia, PA; PRT-679328.

The applicant requests amendment and renewal of their captive-bred wildlife registration under 50 CFR 17.21(g) for the following families, genera, and species, to enhance their propagation or survival. This notification covers activities to be conducted by the applicant over a 5-year period.

Families

Bovidae

Canidae

Cebidae

Cercopithecidae

Cervidae

Elephantidae

Equidae

Felidae (does not include jaguar, margay, or ocelot)

Hominidae

Hylobatidae

Lemuridae

Rhinocerotidae

Accipitridae

Bucerotidae

Cathartidae

Columbidae

Cotingidae

Gruidae

Muscicapidae

Pedionomidae

Psittacidae (does not include thick-billed parrots)

Rallidae

Strigidae

Sturnidae (does not include Aplonis pelzelni)

Threskiornithidae

Trogonidae

Alligatoridae

Boidae (does not include Mona boa or Puerto Rico boa)

Crocodylidae (does not include the American crocodile)

Testudinidae

Varanidae

Bufonidae

Species

Rodrigues fruit bat (Pteropus rodricensis)

Central American river turtle (Dermatemys mawii)

Giant otter (Pteronura brasiliensis)

Applicant: Richard Ray, Farragut, TN; PRT-99438A.

The applicant requests a captive-bred wildlife registration under 50 CFR 17.21(g) for the radiated tortoise (Astrochelys radiata) to enhance the species' propagation or survival. This notification covers activities to be conducted by the applicant over a 5-year period.

Applicant: Oregon Zoo, Portland, OR; PRT-677662.

The applicant requests renewal of their captive-bred wildlife registration under 50 CFR 17.21(g) for the following families, to enhance their propagation or survival. This notification covers activities to be conducted by the applicant over a 5-year period.

Families

Cebidae

Cercopithecidae

Elephantidae

Equidae

Felidae (does not include jaguar, margay, or ocelot)

Hylobatidae

Lemuridae

Hominidae

Rhinocerotidae

Applicant: Charles Salisbury, Lakeland, FL; PRT-56309A.

The applicant requests amendment of their captive-bred wildlife registration under 50 CFR 17.21(g) to include Siamang (Symphalangus syndactylus) to enhance their propagation or survival. This notification covers activities to be conducted by the applicant over a 5-year period.

Applicant: Chicago Zoological Society, Brookfield, IL; PRT-682781.

The applicant requests renewal of their captive-bred wildlife registration under 50 CFR 17.21(g) for the following families, to enhance their propagation or survival. This notification covers activities to be conducted by the applicant over a 5-year period.

Families

Bovidae

Camelidae

Canidae

Cebidae

Cercopithecidae

Equidae

Felidae (does not include jaguar, ocelot, or margay)

Hominidae

Hylobatidae

Lemuridae

Lorisidae

Pteropodidae

Rhinocerotidae

Tapiridae

Psittacidae (does not include thick-billed parrots)

Sturnidae (does not include Aplonis pelzelni)

Crocodylidae (does not include the American crocodile)

Testudinidae

Applicant: East Coast Zoological Society dba Brevard Zoo, Melbourne, FL; PRT-036218.

The applicant requests amendment and renewal of their captive-bred wildlife registration under 50 CFR 17.21(g) for the following families, genera, and species, to enhance their propagation or survival. This notification covers activities to be conducted by the applicant over a 5-year period.

Families

Cebidae

Canidae

Cercopithecidae

Hominidae

Hylobatidae

Lemuridae

Tapiridae

Species

Cheetah (Acinonyx jubatus)

Grevy's Zebra (Equus grevyi)

Golden parakeet (Guarouba guarouba)

Bali starling (Leucopsar rothschildi)

Radiated tortoise (Astrochelys radiata)

Goliath frog (Conraua goliath)

Multiple Applicants

The following applicants each request a permit to import the sport-hunted trophy of one male bontebok (Damaliscus pygargus pygargus) culled from a captive herd maintained under the management program of the Republic of South Africa, for the purpose of enhancement of the survival of the species.

Applicant: Franklin Brown, Rainbow City, AL; PRT-99428A.

Applicant: Michael Couch, Lebanon, TN; PRT-97814A.

Applicant: Coll John, El Paso, TX; PRT-99723A.

Applicant: Montague James, El Paso, TX; PRT-99724A.

Brenda Tapia,
Program Analyst/Data Administrator, Branch of Permits, Division of Management Authority.

[FR Doc. 2013-06595 Filed 3-21-13; 8:45 am]

BILLING CODE 4310-55-P